DEPARTMENT OF HOMELAND SECURITY

Coast Guard

33 CFR Part 165

[CGD13-04-008]

RIN 1625-AA00

Safety Zone; Fireworks Displays in the Captain of the Port Portland Zone

AGENCY: Coast Guard, DHS.

ACTION: Notice of implementation of regulation.

SUMMARY: Between May 7, 2004, October 17, 2004, the Coast Guard will enforce permanent safety zones for Annual Fireworks displays on the Willamette River, the Columbia River and the Coos River in the Captain of the Port Portland zone. The Coast Guard is taking this action to safeguard watercraft and their occupants from safety hazards associated with these fireworks displays. Entry into these safety zones is prohibited unless authorized by the Captain of the Port.

DATES: The safety zones in 33 CFR 165.1315 will be enforced from May 7, 2004, October 17, 2004.

ADDRESSES: Documents referred to in this notice are available for inspection or copying at COTP Portland, 6767 N. Basin Ave, Portland, OR 97217.

FOR FURTHER INFORMATION CONTACT: LTJG Ryan Wagner, c/o Captain of the Port Portland, 6767 N. Basin Ave, Portland, OR 97217, (503) 240-9370.

SUPPLEMENTARY INFORMATION: The safety zones in 33 CFR 165.1315 were established to provide for the safety of vessels in the vicinity of annual fireworks displays on the Willamette River, the Columbia River and the Coos River. Entry into these zones is prohibited during the following enforcement periods unless authorized by the Captain of the Port or his designee:

• The safety zone for the Cinco de Mayo Fireworks Display will be enforced May 7, 2004, from 9:30 p.m. until 10 p.m.

• The safety zone for the Portland Rose Festival Fireworks Display will be enforced June 30, 2004, from 9:50 p.m. until 10:30 p.m.

• The safety zone for the Tri-City Chamber of Commerce Fireworks Display will be enforced July 4, 2004, from 10 p.m. until 10:30 p.m.

• The safety zone for the Cedco Inc. Fireworks Display will be enforced July 3, 2004, from 10 p.m. until 10:30 p.m.

• The safety zone for the Astoria 4th of July Fireworks Display will be enforced July 4, 2004, from 10 p.m. until 10:30 p.m.

• The safety zone for the Oregon Food Bank Blues Festival will be enforced July 4, 2004, from 10 p.m. until 10:30 p.m.

• The safety zone for the Oregon Symphony Concert Fireworks Display will be enforced September 2, 2004, from 9 p.m. until 9:30 p.m.

• The safety zone for the Vancouver Celebrate America Fireworks Display will be enforced October 17, 2004, from 9 p.m. until 9:20 p.m.

The Captain of the Port may be assisted by other Federal, State, or local agencies in enforcing these security zones.

Dated: March 16, 2004.
Paul D. Jewell,
Captain, U.S. Coast Guard, Captain of the Port, Portland.

[FR Doc. 04-7112 Filed 3-30-04; 8:45 am]

BILLING CODE 4910-15-P